DEPARTMENT OF DEFENSE

Office of the Secretary

[DOD-2007-OS-0020]

Privacy Act of 1974; Systems of Records

AGENCY: Defense Finance and Accounting Service, DoD.

ACTION: Notice to add a new system of records.

SUMMARY: The Defense Finance and Accounting Service (DFAS) is proposing to add a new system of records notice to its inventory of record systems subject to the Privacy Act of 1974, (5 U.S.C. 552a), as amended.

DATES: This action will be effective without further notice on April 6, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above. The proposed system report, as required by 5 U.S.C. 552a of the Privacy Act of 1974, as amended, was submitted on February 26, 2007, to the House Committee on Government Reform, the Senate Committee on Governmental Affairs, and the Office of Management and Budget (OMB) pursuant to paragraph 4c of Appendix I to OMB Circular No. A-130, ‘Federal Agency Responsibilities for Maintaining Records About Individuals,' dated December 12, 2000, 65 FR 239.

Dated: February 28, 2007.
C.R. Choate,
Alternate OSD Federal Register Liaison Officer, Department of Defense.

T7340c

System name:

Defense Workload Operations Web System (DWOWS).

System location:

Defense Finance and Accounting Service—Indianapolis, 8899 East 56th Street, Indianapolis, IN 46249-3250.

Defense Finance and Accounting Service—Cleveland, 1240 East Ninth Street, Cleveland, OH 44199-2055.

Categories of individuals covered by the system:

Navy, Army, Air Force, Marine Corps, Active Duty and Reserve members.

Categories of records in the system:

Name, Social Security Number (SSN), e-mail messages, faxes, letters, memorandum, telephone calls, and tracking reports.

Authority for maintenance of the system:

5 U.S.C. Chapter 55, Pay Administration; 37 U.S.C. Chapter 19, Pay and Allowances of the Uniformed Services; Department of Defense Financial Management Regulation (DoDFMR) 7000.14-R, Vol 7A; and E.O. 9397 (SSN).

Purpose(s):

An Internet (WEB) based system used by the DFAS to track communications and inquires (e-mails, faxes, letters memorandum, and phone calls) received and processed for Army, Air Force, Marine Corps and Navy's Active Duty and Reserve members, to include questions involving the Savings Deposit Program, and by management for benchmark reporting in order to track the turn-around time on financial inquires.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: To the American Red Cross and military relief societies to assist military personnel and their dependents in determining the status of monthly pay, dependents' allotments, loans, and related financial transactions; and to perform other relief-related duties as requested by the service member.

To the Department of Veterans Affairs to report compensation, waivers, and audits, life insurance accounting, disbursement and benefit determinations, and death notices.

To Federal Reserve banks to distribute payments made through the direct deposit system to financial organizations or their processing agents authorized by individuals to receive and deposit payments in their accounts.

The DoD ‘Blanket Routine Uses' published at the beginning of the DFAS compilation of systems of records notices apply to this system.

Policies and practices for storing, retrieving, accessing, retaining, and disposing of records in the system:

Storage:

Records are maintained on paper and electronic storage media.

Retrievability:

Retrieved by Name and Social Security Number (SSN) of Army, Air Force, Marine Corps, Navy Active Duty or Reserve members and/or case number assigned in the system.

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed according to agency security policy.

Retention and disposal:

Records are cut off at the end of the fiscal year and destroyed at 6 years and 3 months.

System manager(s) and address:

Director for Military Pay Systems, Defense Finance and Accounting Service—Denver (DFAS-TSBB/DE), 6760 E. Irvington Place, Denver, CO 80279-8000.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Individuals should furnish full name, Social Security Number, current address, and telephone number.

Record access procedures:

Individuals seeking access to information about themselves contained in this system of records should address written inquiries to Defense Finance and Accounting Service, Freedom of Information/Privacy Act Program Manager, Corporate Communications and Legislative Liaison, 6760 E. Irvington Place, Denver, CO 80279-8000.

Individuals should furnish full name, Social Security Number, current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

Subject individual, Federal agencies and the Military Services (Army, Air Force, Marine Corps and Navy).

Exemptions claimed for the system:

None.

[FR Doc. E7-4030 Filed 3-6-07; 8:45 am]

BILLING CODE 5001-06-P